DEPARTMENT OF AGRICULTURE

Food and Nutrition Service

Agency Information Collection Activities: Supplemental Nutrition Assistance Program: 2008 Farm Bill Provisions on Clarification of Split Issuance; Accrual of Benefits and Definition Changes

AGENCY: Food and Nutrition Service (FNS), USDA.

ACTION: Notice.

SUMMARY: In accordance with the Paperwork Reduction Act of 1995, this notice invites the general public and other public agencies to comment on this proposed information collection associated with SNAP benefit storage and expungement provisions of the 2008 and 2018 Farm Bills. This collection involves both a new collection and an existing collection in use without an OMB control number which is in violation of the Paperwork Reduction Act. The new collection is for providing SNAP households advance or concurrent notice prior to the State agency expunging unused SNAP benefits from the household's Electronic Benefit Transfer (EBT) account due to nine months of account inactivity. The existing collection is for providing SNAP households advance or concurrent notice of State agency action to store unused SNAP benefits offline due to three or more months of account inactivity and for those households to seek reinstatement of benefits prior to permanent expungement.

DATES: Written comments must be received on or before April 13, 2020.

ADDRESSES: The Food and Nutrition Service, USDA, invites interested persons to submit written comments on this information collection. Comments may be submitted in writing by one of the following methods:

• Federal eRulemaking Portal: Go to http://www.regulations.gov. Follow the online instructions for submitting comments.

• Mail: Comments should be addressed to Vicky Robinson, Chief, Retailer Management and Issuance Branch, Retailer Policy and Management Division, 1320 Braddock Place, Alexandria, Virginia 22314.

All responses to this notice will be summarized and included in the request for Office of Management and Budget approval. All comments will be a matter of public record.

FOR FURTHER INFORMATION CONTACT: Requests for additional information or copies of this information collection should be directed to Vicky Robinson at 703-305-2476.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: SNAP Benefit Storage and Expungement.

Form Number: Not Applicable.

OMB Number: 0584-NEW.

Expiration Date: Not Yet Determined.

Type of Request: New information collection.

Abstract: The Department published a proposed rule, titled “RIN-0584-AD02 2008 Farm Bill Provisions on Clarification of Split Issuance; Accrual of Benefits and Definition Changes,” published on September 29, 2016, (81 FR 66866), to implement the mandatory Supplemental Nutrition Assistance Program (SNAP) benefit storage and expungement provisions of the Food, Conservation and Energy Act of 2008, Public Law 110-234 (2008 Farm Bill). However, the Department published the proposed rule without taking into consideration the paperwork reduction act burden activities and publishing a 60-day notice to allow the public to provide comments. While the off-line notice and reinstatement provisions had already been codified in SNAP regulations and, therefore, are not new requirements, the 2008 Farm Bill makes the State option to take inactive SNAP benefits off-line and the associated requirements statutory. In the final rule, the Department also intends to adopt as final the provisions in the Agriculture Improvement Act of 2018, Public Law 115-334 (2018 Farm Bill), which makes additional mandatory changes to the provisions governing the storage and expungement of unused benefits.

These Farm Bill provisions require State agencies to provide a 30-day advance notice to Individuals/Households (SNAP recipients) in order to permanently expunging unused SNAP benefits after nine months of inactivity. State agencies that opt to take unused benefits off-line after three months of SNAP Electronic Benefit Transfer (EBT) account inactivity must also provide up to 10 days advance or concurrent notice to the SNAP recipient before taking such action and to reinstate benefits stored off-line within 48 hours of an Individual/Household's request if the benefits have not reached the expungement timeframe. Currently, only six State agencies are exercising the option to store unused benefits off-line prior to expungement, which is depicted in the burden estimates.

The Department has identified and outlined these activities and the estimated burden hours associated with (1) Expungement Notice (2) Off-line Storage Notice and (3) Off-line Benefit Reinstatement for Individuals/Households and State Agencies.

1. Expungement Notice

Affected Public: (a) Individuals/Households and (b) State agencies: Respondent groups identified include: (1) 2,961,834 Households (Approximately 16 percent of all SNAP households nationwide) who do not access their benefits within nine months and (2) 53 State SNAP agencies.

a. Individuals/Households Annual Burden

Estimated Annual Number of Respondents: 2,961,834.

Estimated Annual Number of Responses per Respondent: 1.

Estimated Total Annual Responses: 2,961,834.

Estimated Annual Time per Response: 2 minutes or 0.0334 hours.

Estimated Total Annual Burden on Respondents: 98,925 hours.

b. State Agency Annual Burden

Estimated Annual Number of Respondents: 53.

Estimated Annual Number of Responses per Respondent: 55,884.

Estimated Total Annual Responses: 2,961,852.

Estimated Annual Time per Response: 30 seconds or 0.0083 hours.

Estimated Total Annual Burden on Respondents: 24,583 hours.

2. Off-Line Storage Notice

Affected Public: (a) Households and (b) State agencies: Respondent groups identified include: (1) 540,818 SNAP households (Approximately 14 percent of all SNAP households in the six States that currently take benefits off-line) who do not access their benefits within three months and (2) Six State SNAP agencies that have opted to store unused benefits off-line.

a. Indvidual/Household Annual Burden

Estimated Number of Respondents: 540,818.

Estimated Number of Responses per Respondent: 1.

Estimated Total Annual Responses: 540,818.

Estimated Time per Response: 3.5 minutes or .0583 hours.

Estimated Total Annual Burden on Respondents: 31,530 hours.

b. State Agency Annual Burden

Estimated Number of Respondents: 6.

Estimated Number of Responses per Respondent: 90,136.

Estimated Total Annual Responses: 540,818.

Estimated Time per Response: 30 seconds or 0.0083 hours.

Estimated Total Annual Burden on Respondents: 4,489 hours.

3. Off-line Benefit Reinstatement

Affected Public: (a) Households and (b) State agencies: Respondent groups identified include: (1) 33,260 SNAP households (Approximately 6 percent of the estimated number of households whose benefits are taken off-line) who get their off-line benefits reinstated and (2) Six State SNAP agencies that have opted to store unused benefits off-line.

a. Individual/Household Annual Burden

Estimated Number of Respondents: 33,260.

Estimated Number of Responses per Respondent: 1.

Estimated Total Annual Responses: 33,260.

Estimated Time per Response: 5 minutes or 0.0835 hours.

Estimated Total Annual Burden on Respondents: 2,777 hours.

b. State Agency Annual Burden

Estimated Number of Respondents: 6.

Estimated Number of Responses per Respondent: 5,543.

Estimated Total Annual Responses: 33,260.

Estimated Time per Response: 3 minutes or .0501 hours.

Estimated Total Annual Burden on Respondents: 1,666 hours.

The grand total annual burden hours is 163,970.49 (133,232.16 for individuals/households + 30,738.34 for State agencies) and 5,923,688 total annual responses (2,961,834 for individuals/household + 2,961,834 for State agencies).

Respondent | CFR citation | Activity | Estimated annual number respondent | Responses annually per respondent | Total annual responses | Estimated average number of hours per response annually | Estimated annual total hours
Individuals or Households SNAP Recipients | TBD | Expungement Notice | 2,961,834 | 1 | 2,961,834 | 0.0334 | 98,925
| TBD | Off-line Storage Notice | 540,818 | 1 | 540,818 | 0.0583 | 31,530
| TBD | Off-line Benefit Reinstatement | 33,260 | 1 | 33,260 | 0.0835 | 2,777
Sub-total of Individual/Households SNAP Recipients |  |  | 2,961,834 | 1 | 2,961,834 | 0.1752 | 133,232
State Agencies | TBD | Expungement Notice | 53 | 55,884 | 2,961,834 | 0.0083 | 24,583
| TBD | Off-line Storage Notice | 6 | 90,136 | 540,818 | 0.0083 | 4,489
| TBD | Off-line Benefit Reinstatement | 6 | 5,543 | 33,260 | 0.0501 | 1,666
Sub-total of State Agencies |  |  | 53 | 55,884 | 2,961,834 | 0.0677 | 30,738
Grand Total Reporting Burden with both Affect Public |  |  | 2,961,887 | 2 | 5,923,668 | 0.0277 | 163,970

Dated: February 5, 2020.
Pamilyn Miller,
Administrator, Food and Nutrition Service.

[FR Doc. 2020-02687 Filed 2-10-20; 8:45 am]

BILLING CODE 3410-30-P